FEDERAL COMMUNICATIONS COMMISSION

Notice of Public Information Collection(s) Being Reviewed by the Federal Communications Commission

November 7, 2003.

SUMMARY: The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 17, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-0994.

Title: Flexibility for Delivery of Communications by Mobile Satellite Service Providers in the 2 GHz Band, the L-Band, and the 1.6/2.4 GHz Band.

Form No.: N/A.

Type of Review: Revision of a currently approved collection.

Respondents: Business or other for-profit.

Number of Respondents: 161.

Estimated Time Per Response: .5 hours—50 hours.

Frequency of Response: On occasion, annual and one-time reporting requirements, recordkeeping requirement, and third party disclosure requirement.

Total Annual Burden: 1,326 hours.

Total Annual Cost: $158,000.

Needs and Uses: On July 3, 2003, the Commission adopted and released an Order on Reconsideration in IB Docket 01-185, FCC 03-162. In this Order, the Commission reconsidered in part its January 29, 2003 decision in this proceeding. The purposes of the Order are to clarify certain issues relating to the time for filing applications to provide ancillary terrestrial components (ATCs), the time in which the Commission may grant such applications, the time in which Mobile Satellite Service (MSS) ATC licenses may construct, test, and commence commercial ATC operations, and the Commission's process for placing applications on public notice for comment. Without this collection of information the Commission would not have the necessary information to grant entities the authority to operate or provide their services to consumers.

OMB Control No.: 3060-1007.

Title: Streamlining and Other Revisions of Part 25 of the Commission's Rules.

Form No.: N/A.

Type of Review: Revision of a currently approved collection.

Respondents: Business or other for-profit.

Number of Respondents: 180 respondents; 1,001 responses.

Estimated Time Per Response: 2 hours.

Frequency of Response: On occasion, annually, and other reporting requirements, and third party disclosure requirements.

Total Annual Burden: 9,746 hours.

Total Annual Cost: $95,206,000.

Needs and Uses: On June 20, 2003, the Commission adopted and released a Second Report and Order in IB Docket No. 00-248, a Second Report and Order in IB Docket No. 02-34, and a Declaratory Order in IB Docket No. 96.111. Among other decisions, the Commission adopted a procedure that gives operators the flexibility to operate satellites in their fleets at any one of their orbit locations assigned to their fleet without individual prior Commission approval. The collections of information are used by Commission staff in carrying out its duties concerning satellite communications as required by various sections of the Communications Act. This information is also used by the Commission staff in carrying out its duties under the World Trade Organization (WTO) Basic Telecom Agreement.

Federal Communications Commission.
Marlene H. Dortch,
Secretary.

[FR Doc. 03-28614 Filed 11-14-03; 8:45 am]

BILLING CODE 6712-01-M